SMALL BUSINESS ADMINISTRATION

[Declaration of Disaster #P052]

State of Indiana

As a result of the President's major disaster declaration for Public Assistance on September 1, 2004, the U.S. Small Business Administration is activating its disaster loan program only for private non-profit organizations that provide essential services of a governmental nature. I find that Clark, Clay, Crawford, Daviess, Dubois, Gibson, Greene, Harrison, Martin, Orange, Owen, Parke, Perry, Pike, Putnam, Scott, Spencer, Sullivan, Vermillion, and Warren Counties in the State of Indiana constitute a disaster area due to damages caused by severe storms and flooding occurring on July 3, 2004, and continuing through July 18, 2004. Applications for loans for physical damage as a result of this disaster may be filed until the close of business on November 1, 2004, at the address listed below or other locally announced locations: U.S. Small Business Administration, Disaster Area 2 Office, One Baltimore Place, Suite 300, Atlanta, GA 30308.

The interest rates are:

| Percent
For Physical Damage:
Non-Profit Organizations Without Credit Available Elsewhere | 2.750
Non-Profit Organizations With Credit Available Elsewhere | 4.875

The number assigned to this disaster for physical damage is P05206.

(Catalog of Federal Domestic Assistance Program Nos. 59008)
Dated: September 13, 2004.
Herbert L. Mitchell,
Associate Administrator for Disaster Assistance.

[FR Doc. 04-20970 Filed 9-16-04; 8:45 am]

BILLING CODE 8025-01-P